NATIONAL SCIENCE FOUNDATION

Networking and Information Technology Research and Development (NITRD) Program: Draft NITRD 2010 Strategic Plan—URL Correction

AGENCY: The National Coordination Office (NCO) for Networking and Information Technology Research and Development (NITRD).

ACTION: Notice, request for public comment.

FOR FURTHER INFORMATION CONTACT: The National Coordination Office (NCO) at nitrd-sp@nitrd.gov or (703) 292-4873. Individuals who use a telecommunications device for the deaf (TDD) may call the Federal Information Relay Service (FIRS) at 1-800-877-8339 between 8 a.m. and 8 p.m., Eastern time, Monday through Friday.

DATES: Comments must be received by 5 p.m. EDT on October 11, 2010.

SUMMARY: With this notice, the National Coordination Office for Networking and Information Technology Research and Development (NITRD) requests comments from the public regarding the draft 2010 Strategic Plan for the Federal NITRD Program. The draft Strategic Plan is posted at: http://www.nitrd.gov/DraftStrategicPlan/. Comments of one page or less in length are requested. This request for information will be active from September 10, 2010 to October 11, 2010.

ADDRESSES: Submit comments via e-mail to: nitrd-sp@nitrd.gov. Comments submitted in response to this notice may be made available to the public online or by alternative means. For this reason, please do not include in your comments information of a confidential nature, such as sensitive personal information or proprietary information.

SUPPLEMENTARY INFORMATION: Overview: This notice is issued by the National Coordination Office for the Networking and Information Technology Research and Development (NITRD) Program. The draft NITRD Strategic Plan reflects broad input from Federal agencies as well as from researchers and other stakeholders in academia, industry, national laboratories, and professional/technical organizations. Public inputs were solicited in a detailed August 2008 Request for Information (RFI) and in a February 2009 public forum and Webcast. Several hundred comments were received in response to the RFI, and many of these were posted to the NITRD Web site for further comment. The public forum, which included formal presentations by academic and industry experts addressing key concepts for the draft Strategic Plan, was attended by some 100 members of the public, while another 400 persons participated via the Webcast.

Background: As required by the High-Performance Computing Act of 1991 (Pub. L. 102-194), the Next Generation Internet Research Act of 1998 (Pub. L. 105-305), and the America COMPETES Act of 2007 (Pub. L. 110-69), NITRD currently provides a framework and mechanisms for coordination among 14 Federal agencies that support advanced IT R&D. These agencies report IT research budgets in the NITRD crosscut, and many other agencies with IT interests also participate informally in NITRD activities. The draft 2010 Strategic Plan for the NITRD Program was developed by the NITRD agencies pursuant to a recommendation of the President's Council of Advisors on Science and Technology (PCAST).

Invitation to comment: Inputs of one page or less are welcomed in response to this third and final request for public comment on the Plan. E-mail to: nitrd-sp@nitrd.gov.

Submitted by the National Science Foundation for the National Coordination Office (NCO) for Networking and Information Technology Research and Development (NITRD) on September 1, 2010.

September 13, 2010.
Suzanne H. Plimpton,
Reports Clearance Officer, National Science Foundation.

[FR Doc. 2010-23459 Filed 9-20-10; 8:45 am]

BILLING CODE 7555-01-P